ENVIRONMENTAL PROTECTION AGENCY

[ER-FRL-9045-9]

Environmental Impact Statements; Notice of Availability

Responsible Agency: Office of Federal Activities, General Information 202-564-5632 or https://www.epa.gov/ nepa/.

Weekly receipt of Environmental Impact Statements

Filed 07/15/2019 Through 07/19/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190167, Final, BLM, NV, Deep South Expansion Project, Review Period Ends: 08/26/2019, Contact: Kevin Hurrell 775-635-4035

EIS No. 20190168, Final, BLM, UT, Bears Ears National Monument Indian Creek and Shash Jaa Units Proposed Monument Management Plans and Associated Final Environmental Impact Statement, Review Period Ends: 08/26/2019, Contact: Lance Porter 435-259-2100

EIS No. 20190169, Final, BLM, UT, Sevier Playa Potash Project, Review Period Ends: 08/26/2019, Contact: Clara Stevens 435-743-3119

EIS No. 20190170, Draft, BR, CA, San Luis Low Point Improvement Project Draft Environmental Impact Statement/Environmental Impact Report, Comment Period Ends: 09/09/2019, Contact: Nicole S. Johnson 916-978-5085

EIS No. 20190171, Final, USFS, MT, Castle Mountains Restoration Project, Review Period Ends: 08/26/2019, Contact: John Casselli 406-791-7723

Amended Notice

EIS No. 20170004, Draft, USFWS,NPS, WA, North Cascades Ecosystem Draft Grizzly Bear Restoration Plan/Environmental Impact Statement, Comment Period Ends: 10/24/2019, Contact: Karen Taylor-Goodrich 360-854-7205 Revision to FR Notice Published 03/17/2017; the National Park Service and the U.S. Fish and Wildlife Service have reopened the comment period to end on 10/24/2019.

Dated: July 22, 2019.
Robert Tomiak,
Director, Office of Federal Activities.

[FR Doc. 2019-15866 Filed 7-25-19; 8:45 am]

BILLING CODE 6560-50-P